DEPARTMENT OF ENERGY

Western Area Power Administration

[DOE/EIS-0483]

Estes to Flatiron Substation Transmission Lines Rebuild Project, Larimer County, CO

AGENCY: Western Area Power Administration, DOE.

ACTION: Notice of Intent To Prepare an Environmental Impact Statement and To Conduct Scoping Meetings; Notice of Floodplain and Wetlands Involvement.

SUMMARY: Western Area Power Administration currently owns and operates two 115-kilovolt transmission lines on two separate rights-of-way (ROW) located between Flatiron Reservoir (near Loveland, Colorado) and the town of Estes Park, Colorado. Each transmission line is approximately 16 miles long. Western is proposing to remove one transmission line and abandon the ROW. The remaining transmission line would be rebuilt along the existing ROW with taller steel monopoles and would be double-circuited (i.e., six conductors per pole).

Western determined that an environmental impact statement (EIS) is the appropriate level of NEPA review. Therefore, Western will prepare an EIS on its proposal to upgrade and co-locate two existing separate transmission lines on a double-circuit transmission line on one ROW in accordance with NEPA, the DOE NEPA Implementing Procedures, and the Council on Environmental Quality (CEQ) regulations for implementing NEPA. Portions of Western's proposal may affect floodplains and wetlands, so this Notice of Intent (NOI) also serves as a notice of proposed floodplain or wetland action in accordance with DOE floodplain and wetland environmental review requirements.

DATES: This notice initiates a 90-day public scoping process to solicit public comments and identify issues, opportunities, and concerns that should be considered in the preparation of a Draft EIS. The scoping period will end on July 16, 2012, or 15 days after the date of the last public scoping meeting, whichever is later. In order to ensure consideration in the Draft EIS, all comments must be received prior to the close of the scoping period. Western will provide additional opportunities for public participation upon publication of the Draft EIS. The public will be notified in advance of future opportunities for participation as the EIS is prepared.

To provide the public with an opportunity to review the proposal and project information, Western expects to hold two public meetings: One meeting in Estes Park, Colorado and one meeting in Loveland, Colorado during the public scoping period. Western will announce the dates and locations of the public scoping meetings through local news media, newsletters, and posting on the Western Web site at http://ww2.wapa.gov/sites/western/transmission/infrastruct/Pages/Estes-Flatiron.aspx, at least 15 days prior to each meeting. Western will consider all comments on the scope of the EIS received or postmarked by the end of scoping. The public is invited to submit comments on the proposal at any time during the EIS process.

ADDRESSES: Comments related to the proposed Project may be submitted by mail to Tim Snowden, Western Area Power Administration, 5555 E. Crossroads Blvd., P.O. Box 3700, Loveland, CO 80539-3003, fax (970) 461-7213, or email, RMR_estesflatironeis@wapa.gov.

FOR FURTHER INFORMATION CONTACT: For additional information on the proposed project, the EIS process, or to receive a copy of the Draft EIS when it is published, contact Tim Snowden by the methods noted above. For general information on the DOE's NEPA review process, contact Carol M. Borgstrom, Director of NEPA Policy and Compliance, GC-54, U.S. Department of Energy, 1000 Independence Avenue SW., Washington, DC 20585-0119, telephone (202) 586-4600 or (800) 472-2756, fax (202) 586-7031.

SUPPLEMENTARY INFORMATION: Western is a Federal power marketing agency within the DOE that markets and delivers Federal wholesale electric power (principally hydroelectric power) to municipalities, rural electric cooperatives, public utilities, irrigation districts, Federal and State agencies, and Native American tribes in 15 western and central states.

Western initially began preparation of an environmental assessment (EA) for the Project. Western's proposal was under a class of actions in the DOE NEPA Implementing Procedures (10 CFR part 1021) that normally requires the preparation of an EA. Subsequent to the EA determination, Western held public meetings and received many written and oral comments from the public and agencies on the proposal during the scoping period. The public expressed several concerns regarding the impacts of the proposal and some of the stakeholders requested evaluation of additional alternatives. Based on these factors, Western determined that an EIS is the more appropriate level of NEPA review.¹ Therefore, Western will prepare an EIS on its proposal to upgrade and co-locate two existing separate transmission lines on a double-circuit transmission line on one ROW.

¹ On November 16, 2011, DOE's Acting General Counsel delegated to Western's Administrator all EIS authorities.

Western will coordinate with appropriate Federal, State, and local agencies and potentially affected Native American tribes during the preparation of the EIS. The U.S. Department of Agriculture, Forest Service, Arapaho and Roosevelt National Forest (Forest Service) will be a cooperating agency on the EIS since it requires NEPA review to support its decision on whether or not to grant a Special Use Permit for parts of the transmission line located on National Forest Service System lands. Western will invite other Federal, State, local, and tribal agencies with jurisdiction by law or special expertise, with respect to environmental issues, to be cooperating agencies on the EIS, as defined in 40 CFR 1501.6. Such agencies also may make a request to Western to be a cooperating agency. Designated cooperating agencies have certain responsibilities to support the NEPA process, as specified in 40 CFR 1501.6(b).

Purpose and Need for Agency Action

Western's purpose and need for agency action is to ensure its facilities are up to current safety and reliability standards, accessible for maintenance and emergencies, protected from wildfire, and cost effective for its customers.

Proposed Action

Presently there are two transmission lines on two separate ROWs located between Flatiron Reservoir (near Loveland) and the town of Estes Park. The Estes-Lyons line segment is approximately 16 miles long and was built in 1938. The Estes-Pole Hill and Flatiron-Pole Hill line segments combined are approximately 16 miles long and were built in 1952 as part of the Colorado-Big Thompson Project. The vast majority of wood pole structures on both transmission lines are the original poles and are 60 to 72 years old.

Western's proposed Federal action (proposal) is to combine portions of both transmission lines onto a single ROW between Flatiron Reservoir and Estes Park, Colorado. Portions of both transmission lines would be removed and those portions of the ROWs abandoned. In the remaining ROW, the transmission line would be rebuilt with steel monopole structures replacing the existing wood H-frame structures, in a double-circuit configuration (i.e., six conductors per structure). In some areas, the ROW would be slightly wider than it is at present to accommodate the double circuit transmission line. There would be two short segments of new ROW, located on private land, to connect portions of the existing transmission line segments into a single ROW. There are no new substations or proposed changes to existing substations.

Presently, vehicle access is required along the entire 32 miles of existing ROW for maintenance and wood pole replacement. Most of the existing wood pole structures would need replacement in the near future and some are in need of replacement at this time. With Western's proposal, approximately 16 miles of the existing ROW would be eliminated along with the associated access roads.

Currently, the two transmission lines cross Roosevelt National Forest System lands. Approximately 1.65 miles of transmission line and ROW would be removed and 2.16 miles of transmission line would be rebuilt on National Forest System lands, under Western's proposal.

Alternatives

Under the No-Action (i.e., baseline) alternative, the two transmission lines would continue to operate on the existing and separate ROWs. Records indicate that 70 to 80 percent of the 32 miles of transmission lines would require replacement within the near future. This would require replacing transmission line structures along both existing ROWs. Access to the transmission lines is limited and replacement of structures would require additional or improved access on both ROWs. The No-Action alternative would require that the existing 30-foot ROW on the Estes-Lyons section be widened to meet current safety standards. Other alternatives may be identified through the EIS scoping process. Comments received during the EA scoping process and comments provided in response to this NOI and the EIS scoping meetings will be considered in defining the scope of the EIS.

Floodplain or Wetland Involvement

Floodplains and wetlands are in the project area. Since the proposal may involve action in floodplains or wetlands, this NOI also serves as a notice of proposed floodplain or wetland action. The EIS will include an assessment of impacts to floodplains and wetlands, and, if required, a floodplain statement of findings following DOE regulations for compliance with floodplain and wetlands environmental review (10 CFR part 1022).

Environmental Issues

Western's proposed Project area is located between Flatiron Reservoir and Estes Park, Colorado in a fairly mountainous territory and crosses open and developed areas. The area is characterized by rugged terrain with scattered developments set against the backdrop of Rocky Mountain National Park. The EIS will review relevant environmental information and will analyze the potential impacts on the full range of potentially affected environmental resources.

Public Participation

Interested parties are invited to participate in the scoping process to help define the scope of the EIS, significant resources, and issues to be analyzed in depth, and to eliminate from detailed study issues that are not pertinent. The EIS scoping process will involve all interested agencies (Federal, State, county, and local), Native American tribes, public interest groups, businesses, affected landowners, and individual members of the public.

Western has previously consulted with potentially affected or interested tribes to jointly evaluate and address the potential effects on cultural resources, traditional cultural properties, or other resources important to the tribes in the proposed Project area. Western will contact previously identified interested tribes and inform them that an EIS is planned. Any government-to-government consultations will be conducted in accordance with Executive Order 13175, Consultation and Coordination with Indian Tribal Governments (65 FR 67249), the President's memorandum of April 29, 1994, Government-to-Government Relations with Native American Tribal Governments (59 FR 22951), DOE-specific guidance on tribal interactions, and applicable natural and cultural resources laws and regulations.

Western will announce public EIS scoping meetings through local news media, newsletters, and posting on the Western Web site at http://ww2.wapa.gov/sites/western/transmission/infrastruct/Pages/Estes-Flatiron.aspx, at least 15 days prior to each meeting. Attendees will be able to speak directly with Western and the Forest Service at the EIS scoping meetings about Western's proposal. The public is encouraged to provide information and comments on issues it believes Western should address in the EIS. Comments may be broad in nature or restricted to specific areas of concern. After gathering comments on the scope of the EIS, Western will address those issues raised in the EIS. In addition, Western will use the results of the EA scoping process to help define the scope of the EIS. Comments on Western's proposal will be accepted at any time during the EIS process, and may be directed to Western as described under ADDRESSES above. Comments received outside of the designated comment periods may be addressed in the Draft EIS, otherwise they will be addressed later in the process, such as in the Final EIS, if practicable.

The EIS process will include this NOI, local EIS scoping meeting notifications, public scoping meetings; consultation and coordination with appropriate Federal, State, county, and local agencies and tribal governments; involvement with affected landowners; distribution of and public review and comment on the Draft EIS; a formal public hearing or hearings on the Draft EIS; distribution of a published Final EIS; and publication of separate Records of Decision in the Federal Register by Western and the Forest Service.

Dated: April 6, 2012.
Timothy J. Meeks,
Administrator.

[FR Doc. 2012-9179 Filed 4-16-12; 8:45 am]

BILLING CODE 6450-01-P